DEPARTMENT OF THE INTERIOR

National Park Service

[NPS-WASO-NAGPRA-19531; PPWOCRADN0-PCU00RP14.R50000]

Notice of Inventory Completion: Texas Archeological Research Laboratory, The University of Texas at Austin, Austin, TX

AGENCY: National Park Service, Interior.

ACTION: Notice.

SUMMARY: The Texas Archeological Research Laboratory, The University of Texas at Austin, Austin, TX, has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Texas Archeological Research Laboratory, The University of Texas at Austin, Austin, TX. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Texas Archeological Research Laboratory, The University of Texas at Austin, Austin, TX, at the address in this notice by December 3, 2015.

ADDRESSES: Marybeth Tomka, Head of Collections, Texas Archeological Research Laboratory, The University of Texas at Austin, 1 University Station, R7500, Austin, TX 78712, telephone (512) 475-6853, email marybeth.tomka@austin.utexas.edu.

SUPPLEMENTARY INFORMATION: Notice is here given in accordance with the Native American Graves Protection and Repatriation Act (NAGPRA), 25 U.S.C. 3003, of the completion of an inventory of human remains under the control of the Texas Archeological Research Laboratory, The University of Texas at Austin, Austin, TX. The human remains were removed from Crosby, Mitchell, and Nolan Counties, TX.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Texas Archeological Research Laboratory, The University of Texas at Austin (TARL) professional staff, in consultation with representatives of the Apache Tribe of Oklahoma; Comanche Nation, Oklahoma; and the Kiowa Indian Tribe of Oklahoma.

History and Description of the Remains

In 1930, human remains representing, at minimum, one individual, were believed to be removed from site 41MH18, in Mitchell County, TX. Cyrus Ray and W.J. Van London visited an historic Native American burial previously found by Mr. Van London. The burial had apparently been disturbed before the joint visit. In a small, poorly documented collection, presumably made at the time of the visit, there are two extensively worn teeth, assumed to be from a single individual. No documentation exists concerning the transfer of these human remains to TARL. No known individual was identified. No associated funerary objects are present.

Diagnostic artifacts date the site to the mid-1800s. The location of the site is within the territory inhabited by both the Comanche and Kiowa Indians during the 1800s.

In 1985, human remains representing, at minimum, two individuals were removed by a University of Texas archeologist from the Church Peak site (41NL8), in Nolan County, TX. This site was originally documented by E.B. Sayles. Although Mr. Sayles had collected some materials from the site, none can be specifically linked to these interments. No known individuals were identified. No associated funerary objects are present.

The mode of interment and diagnostic artifacts found at the site date the site to the mid-1800s. The location of the site is within the territory inhabited by both the Comanche and Kiowa Indians during the 1800s.

In 1995, human remains representing, at minimum, one individual were transferred to TARL from Midwestern State University (MSU). The human remains are represented by one cranium. The human remains had been found on an unspecified date during construction of a road and were given to Walter Dalquest at MSU. Some of the long bones and about 25 copper bracelets had also been given to Dr. Dalquest, but by the time of the transfer to TARL they had been lost. The human remains came from an unspecified locality, apparently private land, several miles north of Crosbyton, in Crosby County, TX. No other details of the site are known. No known individual was identified. No associated funerary objects are present.

The preservation of the human remains and the recorded presence of copper wire bracelets date the site to the late 1800s. The location of the site is within the territory inhabited by both the Comanche and the Kiowa Indians during the 1800s.

Determinations Made by the Texas Archeological Research Laboratory, The University of Texas at Austin

Officials of the Texas Archeological Research Laboratory, The University of Texas at Austin have determined that:

• Pursuant to 25 U.S.C. 3001(9), the human remains described in this notice represent the physical remains of four individuals of Native American ancestry.

• Pursuant to 25 U.S.C. 3001(2), there is a relationship of shared group identity that can be reasonably traced between the Native American human remains and the Apache Tribe of Oklahoma; Comanche Nation, Oklahoma; and the Kiowa Indian Tribe of Oklahoma.

Additional Requestors and Disposition

Lineal descendants or representatives of any Indian tribe or Native Hawaiian organization not identified in this notice that wish to request transfer of control of these human remains should submit a written request with information in support of the request to Marybeth Tomka, Head of Collections, Texas Archeological Research Laboratory, The University of Texas at Austin, 1 University Station, R7500, Austin, TX 78712, telephone (512) 475-6853, email marybeth.tomka@austin.utexas.edu, by December 3, 2015. After that date, if no additional requestors have come forward, transfer of control of the human remains to the Apache Tribe of Oklahoma; Comanche Nation, Oklahoma; and the Kiowa Indian Tribe of Oklahoma.

The Texas Archeological Research Laboratory, The University of Texas at Austin is responsible for notifying the Apache of Oklahoma; Comanche of Oklahoma; and the Kiowa of Oklahoma that this notice has been published.

Dated: October 6, 2015.
Melanie O'Brien,
Manager, National NAGPRA Program.

[FR Doc. 2015-27988 Filed 11-2-15; 8:45 am]

BILLING CODE 4312-50-P